BROADCASTING BOARD OF GOVERNORS

Sunshine Act Meeting

DATE AND TIME: Wednesday, August 21, 2013, 8:30 a.m. EDT.

PLACE: Cohen Building, Room 3321, 330 Independence Ave. SW., Washington, DC 20237.

SUBJECT: Notice of Meeting of the Broadcasting Board of Governors.

SUMMARY: The Broadcasting Board of Governors (BBG) will be meeting at the time and location listed above. The BBG will consider the minutes of Board meetings from December 2012 to June 2013, a resolution to change meeting dates for the remaining calendar year, and resolutions honoring former members for their service on the Board.

The public may attend this meeting in person at the address listed above as seating capacity permits. Member of the public seeking to attend the meeting in person must register at http://bbgboardmeetingaugust2013.eventbrite.com by 12:00 p.m. (EDT) on August 20. For more information, please contact BBG Public Affairs at (202) 203-4400 or by email at pubaff@bbg.gov. This meeting will also be available for public observation via streamed webcast, both live and on-demand, on the BBG's public Web site at www.bbg.gov. Information regarding this meeting, including any updates or adjustments to its starting time, can also be found on the Agency's public Web site.

CONTACT PERSON FOR MORE INFORMATION: Persons interested in obtaining more information should contact Paul Kollmer-Dorsey at (202) 203-4545.

Paul Kollmer-Dorsey,
Deputy General Counsel.

[FR Doc. 2013-20226 Filed 8-15-13; 11:15 am]

BILLING CODE 8610-01-P